DEPARTMENT OF COMMERCE

National Oceanic and Atmospheric Administration

[RTID 0648-XC306]

North Pacific Fishery Management Council; Public Meeting

AGENCY: National Marine Fisheries Service (NMFS), National Oceanic and Atmospheric Administration (NOAA), Commerce.

ACTION: Notice of public hybrid meeting.

SUMMARY: The North Pacific Fishery Management Council (Council) Crab Plan Team will meet September 12, 2022, through September 15, 2022.

DATES: The meeting will be held on Monday, September 12, 2022, through Thursday, September 15, 2022, from 9 a.m. to 5 p.m. PST.

ADDRESSES: The meetings will be a hybrid meeting. The in-person component of the meeting will be held at the Alaska Fishery Science Center in the Traynor Room 2076, 7600 Sand Point Way NE, Building 4, Seattle, WA 98115, or join the meeting online through the links at https://meetings.npfmc.org/Meeting/Details/2950.

Council address: North Pacific Fishery Management Council, 1007 W 3rd Ave., Anchorage, AK 99501-2252; telephone: (907) 271-2809. Instructions for attending the meeting via video conference are given under SUPPLEMENTARY INFORMATION, below.

FOR FURTHER INFORMATION CONTACT: Sarah Rheinsmith, Council staff; phone; (907) 271-2809; email: sarah.rheinsmith@noaa.gov. For technical support, please contact our admin Council staff, email: npfmc.admin@noaa.gov.

SUPPLEMENTARY INFORMATION:

Agenda

Monday September 12, 2022, Through Thursday, September 15, 2022

The agenda will include:

(a) summer trawl survey results;

(b) Fishery summary 2021;

(c) Ecosystem Status report;

(d) SMBKC report card;

(e) SMBKC final SAFE and rebuilding update;

(f) Climate model updates;

(g) ESP Snow crab;

(h) Snow Crab final SAFE;

(i) Snow crab rebuilding;

(j) BBRKC report card;

(k) BBRKC final SAFE;

(l) PIRKC final SAFE;

(m) Tanner crab final SAFE;

(n) Overfishing status updates;

(o) EFH stock author report update;

(p) NSRKC proposed model runs;

(q) BSFRF update;

(r) Modifying timing of Crab Assessments update; and

(s) additional topics.

The agenda is subject to change, and the latest version will be posted at https://meetings.npfmc.org/Meeting/Details/2950 prior to the meeting, along with meeting materials.

Connection Information

You can attend the meeting online using a computer, tablet, or smart phone, or by phone only. Connection information will be posted online at: https://meetings.npfmc.org/Meeting/Details/2950. If you are attending the meeting in-person, please note that all attendees are encouraged to wear a mask.

Public Comment

Public comment letters will be accepted and should be submitted electronically to https://meetings.npfmc.org/Meeting/Details/2950.

Authority: 16 U.S.C. 1801 et seq.

Dated: August 23, 2022.
Rey Israel Marquez,
Acting Deputy Director, Office of Sustainable Fisheries, National Marine Fisheries Service.

[FR Doc. 2022-18451 Filed 8-25-22; 8:45 am]

BILLING CODE 3510-22-P